DEPARTMENT OF AGRICULTURE

Submission for OMB Review; Comment Request

April 11, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: 7 CFR 1941, Operating Loan Policies, Procedures and Authorizations and Closings.

OMB Control Number: 0560-0162.

Summary of Collection: The Consolidated Farm and Rural Development Act (7 U.S.C 1922) (CONACT) authorizes the Secretary of Agriculture and Farm Service Agency (FSA) to make and insure loans to farmers and ranchers and to administer the provisions of the CONACT applicable to the Farm Loan Program. The information is required to ensure that the agency provides assistance to applicants who have reasonable prospects of repaying the government and meet statutory eligibility requirements. This assistance enables family farm operators to use their land, labor, and other resources and to improve their living and financial conditions so that they can eventually obtain credit elsewhere.

Need and Use of the Information: The information is needed for FSA loan approval officials to evaluate an applicant's eligibility, and to determine if the operation is economically feasible and the security offered in support of the loan is adequate. FSA relies on current information to carry out the business of the program as intended and to protect the government's interest. A variety of forms will be used to collect the information. If the information were not collected, or collected less frequently, the Agency would be: (1) Unable to make an accurate eligibility and financial feasibility determination on respondents' request for new loans as required by the CONACT; and (2) unable to meet the congressionally mandated mission of loan programs.

Description of Respondents: Farms: Business or other for-profit; Individuals or households.

Number of Respondents: 26,146.

Frequency of Responses: Reporting: Other (OL Loans).

Total Burden Hours: 7,019.

Ruth Brown,
Departmental Information Collection Clearance Officer.

[FR Doc. E7-7181 Filed 4-13-07; 8:45 am]

BILLING CODE 3410-05-P